DEPARTMENT OF THE INTERIOR

Bureau of Land Management

[LLES956000-L14200000-BJ0000-LXSITRST0000]

Eastern States: Filing of Plats of Survey

AGENCY: Bureau of Land Management, Interior.

ACTION: Notice of Filing of Plats of Survey; Alabama and Wisconsin.

SUMMARY: The Bureau of Land Management (BLM) will file the plats of survey of the lands described below in the BLM-Eastern States office in Springfield, Virginia, 30 calendar days from the date of publication in the Federal Register.

FOR FURTHER INFORMATION CONTACT: Bureau of Land Management—Eastern States, 7450 Boston Boulevard, Springfield, Virginia 22153. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The surveys were requested by the Bureau of Indian Affairs.

The lands surveyed are:

St. Stephens Meridian, Alabama

T. 2 N., R. 5 E.

The plat of survey represents the dependent resurvey of a portion of the South boundary, a portion of the subdivisional lines, and the survey of the subdivision of Sections 27, 28, and 34, and trust parcels no. 1, 2A, 2B, 3, 7, 14, 15, 16, and 22, in Township 2 North, Range 5 East, of the St. Stephens Meridian, in the State of Alabama, and was accepted June 29, 2011.

Fourth Principal Meridian, Wisconsin

T. 28 N., R. 16 E.

The plat of survey represents the dependent resurvey of a portion of the East boundary of Section 13 and informational traverses of a portion of the Moshawquit Public Beach Road and a private drive, in Township 28 North, Range 16 East, of the Fourth Principal Meridian, in the State of Wisconsin, and was accepted June 30, 2011.

We will place a copy of the plats we described in the open files. They will be available to the public as a matter of information.

If BLM receives a protest against a survey, as shown on the plat, prior to the date of the official filing, we will stay the filing pending our consideration of the protest.

We will not officially file the plats until the day after we have accepted or dismissed all protests and they have become final, including decisions on appeals.

Dated: July 21, 2011.
Dominica Van Koten,
Chief Cadastral Surveyor.

[FR Doc. 2011-19057 Filed 7-27-11; 8:45 am]

BILLING CODE 4310-GJ-P